ENVIRONMENTAL PROTECTION AGENCY

[EPA-HQ-OPP-2011-0553; FRL-8887-3]

Notice of Receipt of Requests for Amendments To Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions in Table 2 are effective March 26, 2012, and the deletion in Table 1 is effective October 28, 2011. If the Agency receives a written withdrawal request on or before March 26, 2012 for the pesticides in Table 2 or October 28, 2011 for the pesticide in Table 1, the deletions will not become effective. The Agency will consider a withdrawal request postmarked no later than March 26, 2012 for the deletions in Table 2, and no later than October 28, 2011 for the deletion in Table 1.

Users of these products who desire continued use on crops or sites being deleted should contact the applicable registrant on or before March 26, 2012 for the products in Table 2, or October 28, 2011 for the product in Table 1.

ADDRESSES: Submit your withdrawal request, identified by docket identification (ID) number EPA-HQ-OPP-2011-0553, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

FOR FURTHER INFORMATION CONTACT: Christopher Green, Information Technology and Resources Management Division (7502P), Office of Pesticide Programs, Environmental Protection Agency, 1200 Pennsylvania Ave., NW., Washington, DC 20460-0001; telephone number: (703) 347-0367; e-mail address: green.christopher@epa.gov.

SUPPLEMENTARY INFORMATION:

I. General Information

A. Does this action apply to me?

This action is directed to the public in general. Although, this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket ID number EPA-HQ-OPP-2011-0553. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the Agency taking?

This notice announces receipt by the Agency of applications from registrants to delete uses in certain pesticide registrations. These registrations are listed in Table 1 of this unit by registration number, product name, active ingredient, and specific uses deleted.

The request listed in the following Table 1 has a 30-day comment period because the registrant requested a waiver of the 180-day comment period.

Table 1—Requests for Amendments To Delete Uses in Certain Pesticide Registrations
EPA Registration No. | Product name | Active ingredient | Delete from label
1021-0088 | MGK 264 Insecticide Synergist | MGK 264 | Terrestrial food and non-food crops; Aquatic uses; Greenhouse food crops; Forestry uses; Post-harvest use on food crops; Food producing animals or fowl (direct application to meat and dairy animals or their premises while occupied); & All outdoor uses except building perimeters (spot treatments).

The requests listed in the following Table 2 have a 180-day comment period.

Table 2—Requests for Amendments To Delete Uses in Certain Pesticide Registrations
EPA Registration No. | Product name | Active ingredient | Delete from label
1021-1765 | Multicide Multi-Purpose Spry 27373 | MGK-264, Prallethrin, & Cyphenothrin | Outdoor Use.
5481-96 | DDVP Technical Grade Organophosphorus Insecticide | Dichlorvos | Swine Use.
5481-462 | Amvos Liquitech | Dichlorvos | Swine Use.

Users of the products in Table 2 who desire continued use on crops or sites being deleted should contact the applicable registrant before March 26, 2012 and users of the product in Table 1 who desire continued use on crops or sites being deleted should contact the registrant before October 28, 2011, to discuss withdrawal of the application for amendment. This 180-day or 30-day period will also permit interested members of the public to intercede with registrants prior to the Agency's approval of the deletion.

Table 3 of this unit includes the names and addresses of record for all registrants of the products listed in Tables 1 and 2 of this unit, in sequence by EPA company number.

Table 3—Registrants Requesting Amendments To Delete Uses in Certain Pesticide Registrations
EPA company number | Company name and address
1021 | McLaughlin Gormley King Company, 8810 Tenth Avenue North, Minneapolis, MN 55427-4319.
5481 | AMVAC Chemical Corporation, 4695 MacArthur Court, Suite 1250, Newport Beach, CA 92660.

III. What is the Agency's authority for taking this action?

Section 6(f)(1) of FIFRA provides that a registrant of a pesticide product may at any time request that any of its pesticide registrations be amended to delete one or more uses. The FIFRA further provides that, before acting on the request, EPA must publish a notice of receipt of any such request in the Federal Register. Thereafter, the Administrator may approve such a request.

IV. Procedures for Withdrawal of Request

Registrants who choose to withdraw a request for use deletion must submit the withdrawal in writing to Christopher Green using the methods in ADDRESSES. The Agency will consider written withdrawal requests postmarked no later than March 26, 2012 for the registrations in Table 2 or October 28, 2011, for registrations in Table 1, for which the registrant requested a waiver of the 180-day comment period.

V. Provisions for Disposition of Existing Stocks

The Agency has authorized the registrants to sell or distribute product under the previously approved labeling for a period of 18 months after approval of the revision, unless other restrictions have been imposed, as in special review actions.

List of Subjects

Environmental protection, Pesticides and pests.

Dated: September 1, 2011.
Oscar Morales,
Director, Information Technology and Resources Management Division, Office of Pesticide Programs.

[FR Doc. 2011-24642 Filed 9-27-11; 8:45 am]

BILLING CODE 6560-50-P